PEACE CORPS

Information Collection Request; Submission for OMB Review

AGENCY: Peace Corps.

ACTION: 30-day notice and request for comments.

SUMMARY: The Peace Corps will submit the following information collection request to the Office of Management and Budget (OMB) for review and approval. In accordance with the Paperwork Reduction Act of 1995, we are requesting comments on this collection from all interested individuals and organizations. The purpose of this notice is to allow 30 days for public comment in the Federal Register.

DATES: Submit comments on or before January 20, 2022.

ADDRESSES: Comments should be addressed to Virginia Burke, FOIA/Privacy Act Officer. Virginia Burke can be contacted by email at pcfr@peacecorps.gov. Email comments must be made in text and not in attachments.

FOR FURTHER INFORMATION CONTACT: Virginia Burke at (202) 692-1887, or the Peace Corps address above.

SUPPLEMENTARY INFORMATION: Title: Interview Rating Tool Form.

OMB Control Number: 0420-0555.

Agency Form Number: PC-2134.

Type of Request: Reinstatement, with change, of a previously approved information collection for which approval has expired, for three years.

Originating Office: Office of Volunteer Recruitment and Selection.

Affected Public: Individuals.

Respondents Obligation to Reply: Voluntary.

Burden to the Public: Rating Tool Interview Form.

(a) Annual Estimated Number of Respondents: 10,000.

(b) Frequency of Response: One time.

(c) Estimated Average Burden per Response: 90 minutes.

(d) Annual estimated Total Reporting Burden: 15,000 hours.

(e) Estimated annual cost to respondents: 0.00.

General description of collection and purpose: The Peace Corps will use the information as an integral part of the selection process to learn whether an applicant possesses the necessary characteristics and skills to serve as a Peace Corps Volunteer. A Placement Officer conducts an interview with an applicant and fills out the form during the course of the interview. The information is then used to determine if the Office of Volunteer Recruitment and Selection will issue an invitation to the applicant. The Information Collection expired on January 31, 2021. We are seeking reinstatement with change of this information collection and a three-year clearance.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on December 10, 2021.
Virginia Burke,
FOIA/Privacy Act Officer, Management.

[FR Doc. 2021-27196 Filed 12-20-21; 8:45 am]

BILLING CODE 6051-01-P